DEPARTMENT OF ENERGY

Federal Energy Regulatory Commission

[Docket No. ER07-521-000]

New York Independent System Operator, Inc.; Notice of Agenda and Procedures for Staff Technical Conference

September 4, 2007.

This notice establishes the agenda and procedures for the staff technical conference to be held on September 10, 2007.¹ The technical conference will be held from 10 a.m. to 3 p.m. (EDT), in conference room 3M-2A/B at the Federal Energy Regulatory Commission, 888 First Street, NE., Washington, DC 20426. All interested persons are invited to attend and registration is not required; however, active participation will be limited to those parties who have previously requested to intervene in this proceeding.

¹ The initial notice establishing the date of this technical conference was issued on August 7, 2007. A subsequent notice, issued on August 15, 2007, changed the date to September 10, 2007. The technical conference was directed by Commission order issued on July 27, 2007. See New York Independent System Operator, Inc., 120 FERC ¶ 61,099 (2007) (July 27 Order).

The Commission's July 27, 2007 order in this proceeding directed its staff to hold a technical conference to address the issues raised by New York Independent System Operator, Inc.'s (NYISO) February 5, 2007 compliance filing submitted in response to Order Nos. 681 and 681-A.² In accordance with the July 27 Order, staff will conduct the conference according to the following agenda:

² Long-Term Firm Transmission Rights in Organized Electricity Markets, Order No. 681, FERC Stats. & Regs. ¶ 31,226, order on reh'g and clarification, Order No. 681-A, 117 FERC ¶ 61,201 (2006).

Item 1—Guideline (5)

• NYISO presentation illustrating the amount of load municipal systems are able to hedge with long-term firm transmission rights (FTRs).

• Discussion regarding the manner by which load-serving entities are able to meet their reasonable needs with long-term FTRs in a non-discriminatory manner.

Item 2—Guideline (7)

• Discussion of the price certainty in issues relating to the allocation of long-term FTRs and computational issues relating to the crediting of transmission congestion contract revenues directly to the holders of the rights.

• Discussion of valuation and cost shifting issues that may arise relating to long-term FTRs.

• Discussion of alternative methods of allocating long-term FTRs.

• Discussion of related matters arising from the previous issues.

Commission staff has arranged for telephone conferencing should any party wish to listen to the proceeding remotely. Any parties that plan to attend by phone should contact Elizabeth Slease by e-mail at elizabeth.slease@ferc.gov no later than September 6, 2007 to request the call-in instructions.

The technical conference will be transcribed. Those interested in obtaining a copy of the transcript immediately for a fee should contact Ace-Federal Reporters, Inc., at 202-347-3700, or 1-800-336-6646. Two weeks after the technical conference, the transcript will be available for free on the Commission's e-library system.

FERC conferences are accessible under section 508 of the Rehabilitation Act of 1973. For accessibility accommodations please send an e-mail to accessibility@ferc.gov or call toll free 1-866-208-3372 (voice) or 202-208-1659 (TTY), or send a FAX to 202-208-2106 with the required accommodations.

Kimberly D. Bose,
Secretary.

[FR Doc. E7-17853 Filed 9-10-07; 8:45 am]

BILLING CODE 6717-01-P